DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession and control of the New York University College of Dentistry, New York, NY. The human remains were removed from the Allred Bluff and Salts Bluff Rockshelters, Benton County, AR.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the New York University College of Dentistry professional staff in consultation with representatives of the Caddo Nation of Oklahoma and Osage Nation, Oklahoma.

In 1923, human remains representing a minimum of two individuals were removed from the Allred Bluff Rockshelter, Benton County, AR, by M.R. Harrington. The remains were discovered during an expedition sponsored by the Museum of the American Indian, Heye Foundation. The remains were catalogued into the collections of the Museum of the American Indian in 1923. In 1956, the Museum of the American Indian transferred the remains to Dr. Theodore Kazamiroff, New York University College of Dentistry. No known individuals were identified. No associated funerary objects are present.

In 1922, human remains representing a minimum of one individual were removed from the Salts Bluff Rockshelter Shelter 1, Benton County, AR, by M.R. Harrington. The remains were discovered during an expedition sponsored by the Museum of the American Indian, Heye Foundation. The remains were catalogued into the collections of the Museum of the American Indian in 1922. In 1956, the Museum of the American Indian transferred the remains to Dr. Theodore Kazamiroff, New York University College of Dentistry. No known individual was identified. No associated funerary objects are present.

Harrington identified all of the archeological material associated with the human remains at both rockshelters as part of the Bluff Dweller culture. The “Bluff Dweller” material dates to the Late Archaic and Early Woodland periods. The distinction between these two time periods is not well-defined. Both components are part of the James River complex, which lasted from approximately 2000 B.C. to A.D. 100. The James River complex was spread throughout the Ozarks, a broad geographic area that includes several subtraditions, although no subtradition has yet been defined for the region that includes the rockshelters. The shelters in the region were likely used by small groups of people from multiple adjacent, culturally discrete regions for specific subsistence or other resource procurement activities. The morphology of the remains is consistent with an individual of Native American ancestry.

At the time of European contact, the areas of the Allred Bluff Rockshelter and Salts Bluff Rockshelter were inhabited by the Osage people. Osage tradition identifies the area of Benton County as part of the ancestral territory of the Osage. The Osage ceded their land in Arkansas, Missouri, and Oklahoma between 1808 and 1825. For a while, they retained hunting rights in the region and their use of the Ozarks is documented in early 19th century records. The Osage were ultimately relocated to Oklahoma, where their reservation was established in 1872.

Officials of the New York University College of Dentistry have determined that, pursuant to 25 U.S.C. 3001(9), the human remains described above represent the physical remains of three individuals of Native American ancestry. Officials of the New York University College of Dentistry also have determined that, pursuant to 25 U.S.C. 3001(2), a relationship of shared group identity cannot reasonably be traced between the Native American human remains and any present-day Indian tribe.

The Native American Graves Protection and Repatriation Review Committee (Review Committee) is responsible for recommending specific actions for disposition of culturally unidentifiable human remains. In July 2009, the New York University College of Dentistry requested that the Review Committee recommend disposition of the culturally unidentifiable human remains of three individuals to the Osage Nation, Oklahoma. The Review Committee considered the proposal at its October 30-31, 2009, meeting and recommended disposition of the human remains to the Osage Nation, Oklahoma.

A March 4, 2010, letter from the Designated Federal Official, writing on behalf of the Secretary of the Interior, transmitted the authorization for the College to effect disposition of the physical remains to the Osage Nation, Oklahoma, contingent on the publication of a Notice of Inventory Completion in the Federal Register. This notice fulfills that requirement.

Representatives of any other Indian tribe that believes itself to be culturally affiliated with the human remains should contact Dr. Louis Terracio, New York University College of Dentistry, 345 East 24th St., New York, NY 10010, telephone (212) 998-9917, before July 12, 2010. Disposition of the human remains to the Osage Nation, Oklahoma, may proceed after that date if no additional claimants come forward.

The New York University College of Dentistry is responsible for notifying the Caddo Nation of Oklahoma and Osage Nation, Oklahoma, that this notice has been published.

Dated: May 27, 2010
David Tarler,
Acting Manager, National NAGPRA Program.

[FR Doc. 2010-14040 Filed 6-10-10; 8:45 am]

BILLING CODE 4312-50-S